DEPARTMENT OF HEALTH AND HUMAN SERVICES

Administration for Children and Families

Proposed Information Collection Activity; OCSS-75 Tribal Child Support Services Annual Data Report (Office of Management and Budget #: 0970-0320)

AGENCY: Office of Child Support Services, Administration for Children and Families, U.S. Department of Health and Human Services.

ACTION: Request for public comments.

SUMMARY: The Office of Child Support Services (OCSS), Administration for Children and Families (ACF), U.S. Department of Health and Human Services, is requesting a 3-year extension of the form OCSS-75-Tribal Child Support Services Annual Data Report (OMB # 0970-0320, expiration May 31, 2025). We are requesting minor changes to this form.

DATES: Comments due January 14, 2025. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION:

Description: The data collected by form OCSS-75 are used to prepare the OCSS preliminary and annual data reports. In addition, tribes administering OCSS programs under title IV-D of the Social Security Act are required to report program status and accomplishments in an annual narrative report as part of the OCSS-75 report and submit it annually. The only changes to this report include updating an email address and changing the name from the Office of Child Support Enforcement (OCSE) to the Office of Child Support Services (OCSS) throughout the form. This change includes acronyms.

Respondents: Tribal Child Support Services Organizations or the Department/Agency/Bureau responsible for Child Support Services in each Tribe.

Annual Burden Estimates
Instrument | Total number of respondents | Annual number of responses per respondent | Average burden hours per response | Annual burden hours
OCSS-75 | 63 | 1 | 40 | 2,520

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Title IV-D of the Social Security Act as required by CFR 45 309.170(b).

Mary C. Jones,
ACF/OPRE Certifying Officer.

[FR Doc. 2024-26688 Filed 11-14-24; 8:45 am]

BILLING CODE 4184-41-P